DEPARTMENT OF THE TREASURY

Alcohol and Tobacco Tax and Trade Bureau

27 CFR Parts 4, 9, and 70

[Notice No. 80; Re: Notice No. 78]

RIN 1513-AB39

Proposed Revision of American Viticultural Area Regulations; Extension of Comment Period

AGENCY: Alcohol and Tobacco Tax and Trade Bureau, Treasury.

ACTION: Notice of proposed rulemaking; extension of comment period.

SUMMARY: In response to industry member requests, we are extending the comment period for Notice No. 78, Proposed Revision of American Viticultural Area Regulations, a notice of proposed rulemaking published in the Federal Register on November 20, 2007, for an additional 60 days.

DATES: Written comments on Notice No. 78 must now be received on or before March 20, 2008.

ADDRESSES: You may send comments on Notice No. 78 to one of the following addresses:

• http://www.regulations.gov (Federal e-rulemaking portal; follow the instructions for submitting comments); or

• Director, Regulations and Rulings Division, Alcohol and Tobacco Tax and Trade Bureau, P.O. Box 14412, Washington, DC 20044-4412.

You may view copies of this notice, Notice No. 78, and any comments we receive about the proposals described in Notice No. 78 under Docket No. TTB-2007-0068 on the Regulations.gov Web site at http://www.regulations.gov. A link to Docket No. TTB-2007-0068 is also available on the TTB Web site at http://www.ttb.gov/regulations_laws/all_rulemaking.shtml, within the entry for Notice No. 78. In addition, you may view copies of the same materials described above by appointment at the TTB Information Resource Center, 1310 G Street, NW., Washington, DC 20220. To make an appointment, call (202) 927-2400.

FOR FURTHER INFORMATION CONTACT: Rita D. Butler, Regulations and Rulings Division, Alcohol and Tobacco Tax and Trade Bureau, 1310 G Street, NW., Suite 200-E, Washington, DC 20220; telephone: 202-927-1608, fax: 202-927-8525.

SUPPLEMENTARY INFORMATION: On November 20, 2007, the Alcohol and Tobacco Tax and Trade Bureau (TTB) published a notice of proposed rulemaking in the Federal Register as Notice No. 78 (72 FR 65261) requesting comments on proposed amendments to our regulations regarding the use of geographic brand names found in 27 CFR part 4 and the establishment of American viticultural areas (AVAs) contained in 27 CFR part 9. The proposed amendments address the effect that the approval of an AVA may have on established brand names and clarify the rules for preparing, submitting, and processing viticultural area petitions. TTB also proposes to add to the regulations statements regarding the viticultural significance of established viticultural area names, or key portions of those names, for wine labeling purposes. As originally published, comments on Notice No. 78 are due on or before January 22, 2008, 60 days after its publication.

Also on November 20, 2007, TTB published Notice No. 77 in the Federal Register (72 FR 65256), a notice of proposed rulemaking regarding the establishment of the Calistoga viticultural area in Napa County, California. Specifically, Notice No. 77 sought comments on a proposal to provide “grandfather” protection for certain brand names used on existing certificates of label approval. As originally published, comments on Notice No. 77 are due on or before December 20, 2007, 30 days after its publication.

After the publication of Notice No. 78, TTB received three requests from wine industry groups to extend that notice's comment period. Requests for 60-day extensions were received from the Napa Valley Vintners, a trade group representing over 300 Napa Valley (California) vintners, and the Wine Institute, a trade representing 1,100 California wineries and wine-related businesses. The Oregon Winegrowers Association, a trade association with 239 grape grower and winery members, requested a 120-day extension.

In support of its extension request, Napa Valley Vintners indicates that the proposed amendments to the AVA program cannot be considered by its membership within the announced comment period. The group states that it only meets once a month, and “because of the complexity of the subjects covered in the Notice, the current holiday season and market visits already scheduled by our winery members during January, we will be unable to complete our deliberations and finalize our comments until after our general membership meeting in March.”

The Wine Institute, in its comment period extension request, stated that Notice No. 78 “is complex and far-reaching, and will affect many of our members.” The Wine Institute also noted that the comment period deadline for Notice No. 78 runs up against the January 27, 2008, comment deadline for Notice No. 73, a notice of proposed rulemaking regarding “Serving Facts” labeling for alcohol beverages, “which is already demanding a large part of our resources and membership participation,” all of which is occurring during the holiday season when its membership “is engaged in one of its busiest months of the year.” In addition, the group adds that Notice Nos. 77 and 78 deal with similar issues “that call for consistent rather than staggered comment periods.”

The Oregon Winegrowers Association, noting the “complex and lengthy” proposals outlined in Notice No. 78, states that it will require additional time to thoroughly understand the full impact of the proposals, acquaint its board members with their meaning, garner consensus within the industry, and respond in detail to the notice's proposals.

In response to these requests, TTB extends the original 60-day comment period for Notice No. 78 for an additional 60 days so that the comment period will equal 120 days. Therefore, comments on Notice No. 77 are now due on or before March 20, 2008.

Drafting Information

Michael Hoover of the Regulations and Rulings Division drafted this notice.

Signed: December 11, 2007.
John J. Manfreda,
Administrator.

[FR Doc. E7-24364 Filed 12-14-07; 8:45 am]

BILLING CODE 4810-31-P